DEPARTMENT OF COMMERCE

International Trade Administration

[A-570-044]

1,1,1,2-Tetrafluoroethane (R-134a) From the People's Republic of China: Final Results of Antidumping Duty Administrative Review and Final Determination of No Shipments; 2021-2022

AGENCY: Enforcement and Compliance, International Trade Administration, Department of Commerce.

SUMMARY: The U.S. Department of Commerce (Commerce) determines that 1,1,1,2-Tetrafluoroethane (R-134a) from the People's Republic of China (China) was sold in the United States at less than normal value during the period of review (POR), April 1, 2021, through March 31, 2022. In addition, Commerce determines that certain companies had no shipments during the POR or did not establish their eligibility for a separate rate.

DATES: Applicable September 5, 2023.

FOR FURTHER INFORMATION CONTACT: Patrick Barton or David Lindgren, AD/CVD Operations, Office III, Enforcement and Compliance, International Trade Administration, U.S. Department of Commerce, 1401 Constitution Avenue NW, Washington, DC 20230; telephone: (202) 482-0012 or (202) 482-1671, respectively.

SUPPLEMENTARY INFORMATION:

Background

On May 3, 2023, Commerce published the Preliminary Results of this review in the Federal Register and invited interested parties to comment on those results.¹ For a summary of the events that occurred since the Preliminary Results, see the Issues and Decision Memorandum.² Commerce conducted this administrative review in accordance with section 751(a)(1)(B) of the Tariff Act of 1930, as amended (the Act).

¹ See 1,1,1,2-Tetrafluoroethane (R-134a) from the People's Republic of China: Preliminary Results of Antidumping Duty Administrative Review, Partial Rescission, and Preliminary Determination of No Shipments; 2021-2022, 88 FR 27861 (May 3, 2023) (Preliminary Results), and accompanying Preliminary Decision Memorandum.

² See Memorandum, “Decision Memorandum for the Final Results of Antidumping Duty Administrative Review: 1,1,1,2-Tetrafluoroethane (R-134a) from the People's Republic of China; 2021-2022,” dated concurrently with, and hereby adopted by, this notice (Issues and Decision Memorandum).

Scope of the Order ³

³ See 1,1,1,2-Tetrafluoroethane (R-134a) from the People's Republic of China: Antidumping Duty Order, 82 FR 18422 (April 19, 2017) (Order).

The merchandise covered by the Order is R-134a from China. For a complete description of the scope, see the Issues and Decision Memorandum.

Analysis of Comments Received

All issues raised in the case and rebuttal briefs are addressed in the Issues and Decision Memorandum. A list of the issues that parties raised and to which we responded in the Issues and Decision Memorandum is attached at Appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Determination of No Shipments

In the Preliminary Results, we preliminarily found that T.T. International Co., Ltd. (TTI) had no shipments of subject merchandise during the POR. Following the publication of the Preliminary Results, we received no comments from interested parties regarding TTI, nor has any party submitted record evidence which would call our preliminary determination of no shipments into question. Therefore, for the final results, we continue to find that TTI had no shipments of subject merchandise during the POR. Accordingly, we will issue appropriate instructions that are consistent with our “automatic assessment” clarification for TTI.⁴

⁴ See Non-Market Economy Antidumping Proceedings: Assessment of Antidumping Duties, 76 FR 65694 (October 24, 2011) (Assessment Practice Refinement); see also “Assessment Rates” section, below.

The China-Wide Entity

Aside from the company for which we made a final no-shipment determination, Commerce considers all other companies for which a review was requested, and which did not demonstrate separate rate eligibility, to be part of the China-wide entity. Specifically, because Zhejiang Quhua Fluor-Chemistry Co., Ltd. (Zhejiang Quhua) did not establish its eligibility for a separate rate in this administrative review, we consider Zhejiang Quhua to be part of the China-wide entity. Because no party requested a review of the China-wide entity, and Commerce no longer considers the China-wide entity as an exporter conditionally subject to administrative reviews,⁵ we did not conduct a review of the China-wide entity. Thus, the weighted-average dumping margin for the China-wide entity rate (i.e., 167.02 percent) is not subject to change.⁶

⁵ See Antidumping Proceedings: Announcement of Change in Department Practice for Respondent Selection in Antidumping Duty Proceedings and Conditional Review of the Nonmarket Economy Entity in NME Antidumping Duty Proceedings, 78 FR 65963, 65969-70 (November 4, 2013).

⁶ See Order, 82 FR at 18423.

Final Results of Review

Commerce determines that the following weighted-average dumping margin exists for the period April 1, 2021, through March 31, 2022:

Exporter | Weighted-average dumping margin (percent)
Zhejiang Sanmei Chemical Ind. Co., Ltd./Jiangsu Sanmei Chemical Ind. Co., Ltd./Fujian Qingliu Dongying Chemical Ind. Co. Ltd | 147.08

Disclosure

There are no calculations to disclose in accordance with 19 CFR 351.224(b) for these final results.

Assessment Rate

Pursuant to section 751(a)(2)(A) of the Act, and 19 CFR 351.212(b)(1), Commerce shall determine, and U.S. Customs and Border Protection (CBP) shall assess, antidumping duties on all appropriate entries covered by this review. Pursuant to 19 CFR 351.212(b)(1), where the respondent reported the entered value of its U.S. sales, we calculated importer-specific antidumping duty assessment rates by aggregating the total amount of dumping calculated for the examined sales of each importer and dividing each of these amounts by the total entered value associated with those sales. Where the respondent did not report entered value, we calculated the entered value in order to calculate the assessment rate. Where either the respondent's weighted-average dumping margin is zero or de minimis within the meaning of 19 CFR 351.106(c)(1), or an importer-specific assessment rate is zero or de minimis, we will instruct CBP to liquidate the appropriate entries without regard to antidumping duties.

For the company identified as part of the China-wide entity (Zhejiang Quhua), we will instruct CBP to apply an ad valorem assessment rate of 167.02 percent to all POR entries of subject merchandise which was exported by this company. Pursuant to a refinement in our non-market economy practice, for sales that were not reported in the U.S. sales data submitted by Zhejiang Sanmei Chemical Ind. Co., Ltd. during this review, we will instruct CBP to liquidate entries associated with those sales at the rate for the China-wide entity.⁷ Furthermore, where we found that an exporter under review had no shipments of the subject merchandise, any suspended entries that entered under that exporter's case number (i.e., at that exporter's cash deposit rate) will be liquidated at the rate for the China-wide entity.⁸

⁷ See Assessment Practice Refinement, 76 FR at 65694 for a full discussion of this practice.

⁸ Id.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for previously examined China and non-China exporters not listed above that have separate rates, the cash deposit rate will continue to be the exporter-specific rate published for the most recently completed segment of this proceeding; (3) for all China exporters of subject merchandise that have not been found to be entitled to a separate rate, the cash deposit rate will be the rate for the China-wide entity (i.e., 167.02 percent); and (4) for all non-China exporters of subject merchandise which have not received their own separate rate, the cash deposit rate will be the rate applicable to the China exporter that supplied that non-China exporter. These cash deposit requirements, when imposed, shall remain in effect until further notice.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order

This notice also serves as a final reminder to parties subject to an administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: August 28, 2023.
Lisa W. Wang,
Assistant Secretary for Enforcement and Compliance.

Appendix

List of Topics Discussed in the Issues and Decision Memorandum

I. Summary

II. Background

III. Scope of the Order

IV. Discussion of the Issues

Comment 1: Surrogate Country Selection

Comment 2: Surrogate Financial Statements Selection

Comment 3: TCE Surrogate Value

Comment 4: BHF Surrogate Value

Comment 5: By-Product Offsets

V. Recommendation

[FR Doc. 2023-19044 Filed 9-1-23; 8:45 am]

BILLING CODE 3510-DS-P